DEPARTMENT OF STATE

[Public Notice 5650]

Determination on U.S. Position on Proposed European Bank for Reconstruction and Development (EBRD) Projects Including Serbia and Bosnia and Herzegovina

Pursuant to section 561 of the Foreign Operations, Export Financing, and Related Programs Appropriations Act, 2006 (Pub. L. 109-102) (FOAA), and Department of State Delegation of Authority Number 289, I hereby determine that the four proposed EBRD projects will contribute to a stronger and more integrated economy in the Balkans and thus directly support implementation of the Dayton Accords. I therefore waive the application of Section 561 of the FOAA to the extent that provision would otherwise prevent the U.S. Executive Directors of the EBRD from voting in favor of these projects. The four projects are: A loan to HVB Banka Serbia; an equity investment in Syntaxis Mezzanine Fund I; an equity investment in South Eastern Energy Capital; and a loan to Danube Group Holding of Serbia with an equity investment in JKR Natural Resource B.V.

This Determination shall be reported to the Congress and published in the Federal Register.

Dated: December 5, 2006.
Daniel Fried,
Assistant Secretary of State for European and Eurasian Affairs, Department of State.

[FR Doc. E6-21874 Filed 12-20-06; 8:45 am]

BILLING CODE 4710-23-P